DEPARTMENT OF TRANSPORTATION

Federal Aviation Administration

Notice of Submission Deadlines for Schedule Information for John F. Kennedy International Airport and Newark Liberty International Airport for the Summer 2008 Scheduling Season

AGENCY: Department of Transportation, Federal Aviation Administration (FAA).

ACTION: Notice of submission deadline.

SUMMARY: Under this notice, the FAA announces that New York's John F. Kennedy International Airport (JFK) and Newark Liberty International Airport (EWR) have been designated Level 2 Schedules Facilitated Airports for the summer 2008 scheduling season in accordance with the International Air Transport Association (IATA) Worldwide Scheduling Guidelines. Accordingly, the FAA announces an October 11, 2007, deadline for submitting schedule information for all planned flights at JFK and EWR between the hours of 6 a.m. and 11 p.m., local time or 1000 and 0300 UTC. The FAA deadline coincides with the submission deadline established by IATA for the Summer 2008 Schedules Conference.

The U.S. summer scheduling season is from March 9, 2008, through November 1, 2008, in recognition of the U.S. daylight saving time dates. The FAA understands the IATA summer 2008 season is March 30, 2008, through October 25, 2008. The FAA will accept schedules that coincide with the IATA scheduling season, rather than U.S. daylight saving dates, in order to ease the administrative burdens on carriers conducting international operations and in order to ensure that FAA has the most accurate schedule information.

The Level 2 designations for JFK and EWR are necessary because of increased levels of air traffic operations, congestion and delay at the airports and a tangible decrease in operational performance (performance data for each airport is provided below). The FAA is implementing a number of initiatives for JFK and EWR to improve air traffic control (ATC) efficiency and reduce delays at those and other airports. For instance, ATC has increased use of a second departure runway at JFK when conditions permit. Other measures for both airports will improve routing options during periods of adverse weather conditions. And, over the next several years, the FAA will redesign airspace in the New York/New Jersey/Philadelphia areas in order to improve efficiency and reduce delays. These near term measures, however, are not sufficient to meet the current peak hour operational demands at these airports.

John F. Kennedy Airport

Operations at JFK were previously limited by the FAA under the High Density Rule. This rule was eliminated at JFK after January 1, 2007, in accordance with 49 U.S.C. 41715(a)(2). The FAA advised IATA and carriers that this effectively changed the FAA determination for JFK under IATA guidelines to Level 1 as of January 1, 2007. However, the FAA now redesignates JFK as Level 2 for the summer 2008 season and requests carriers to provide schedule information in accordance with this notice.

JFK is experiencing increased congestion with a corresponding decrease in on-time performance. Comparing the period of October 2006 through July 2007 to the same period in the previous year, the average daily operations at JFK increased 23 percent; the average daily arrivals with delays greater than one hour increased 114 percent; and on-time gate arrivals within 15 minutes of scheduled time decreased from 69.7 percent to 61.2 percent. Average taxi-out delay increased 19 percent from 30 to almost 36 minutes on average. The metrics for the months of June and July 2007 show even further deterioration of performance. A number of carriers communicated their concerns to the FAA about the impact the delayed flights are having on operational reliability, flight connections and network planning.

The FAA intends to work with carriers to review operations, particularly during the morning hours of 7 a.m. to 10 a.m. and afternoon and evening hours from 2 p.m. to 10 p.m. local time. Capacity exists for new operations or retiming of existing flights at many periods of the day. The FAA is currently completing a capacity and demand assessment of JFK and considering steps to address the timing of flights on the airport's operation. This could result in operational limits during peak hours and a change of JFK's designation to Level 3.

Newark Liberty International Airport

EWR has been one of the most consistently delayed airports in the National Airspace System (NAS). For example, for the period of October 2006 through July 2007, EWR had an on-time arrival performance of 60.17 percent, the worst among the top 35 airports. Therefore, based on the airport's performance metrics and the imbalance between ATC capacity and demand that is expected to continue in the near term, the FAA has decided to designate EWR as an IATA Level 2 Schedules Facilitated Airport for the summer 2008 scheduling season. The FAA understands EWR is currently Level 2 for certain international passenger terminal facilities, and this notice does not replace that schedule facilitation process done at the local airport level.

The FAA intends to work with carriers to review operations, particularly during the morning hours of 7 a.m. to 10 a.m. and afternoon and evening hours from 2 p.m. to 10 p.m. local time. The FAA is considering options to further address congestion and improve operational performance at EWR, including the timing of flights at the airport, and their impact on the airport's operation.

DATES: Schedules must be submitted no later than October 11, 2007.

ADDRESSES: Schedules may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: Komal Jain, Regulations Division, Office of the Chief Counsel, Federal Aviation Administration, 800 Independence Avenue, SW., Washington, DC 20591; telephone number: 202-267-3073.

Issued in Washington, DC, on September 19th, 2007.
James W. Whitlow,
Deputy Chief Counsel.

[FR Doc. 07-4711 Filed 9-19-07; 2:26 pm]

BILLING CODE 4910-13-P